FEDERAL COMMUNICATIONS COMMISSION

47 CFR Part 73

[DA 01-245; MM Docket No. 01-211, RM-10221; and MM Docket No. 01-213, RM-10226]

Radio Broadcasting Services; Holly Springs, MS, and McBain, MI

AGENCY: Federal Communications Commission.

ACTION: Final rule.

SUMMARY: This document grants two proposals that allot new FM channels to Holly Springs, Mississippi, and McBain, Michigan. Filing windows for Channel 243A at Holly Springs, Mississippi, and Channel 300A at McBain, Michigan, will not be opened at this time. Instead, the issue of opening these allotments for auction will be addressed by the Commission in a subsequent order. See Supplementary Information.

DATES: Effective March 18, 2002.

FOR FURTHER INFORMATION CONTACT: R. Barthen Gorman, Mass Media Bureau, (202) 418-2180.

SUPPLEMENTARY INFORMATION: This is a synopsis of the Commission's Report and Order in MM Docket No. 01-211 and MM Docket No. 01-213, adopted January 23, 2002, and released February 1, 2002. The full text of this Commission decision is available for inspection and copying during normal business hours in the FCC Reference Information Center at Portals II, 445 12th Street, SW., Room CY-A257, Washington, DC, 20554. The document may also be purchased from the Commission's duplicating contractor, Qualex International, Portals II, 445 12th Street, SW., Room CY-B402, Washington, DC 20554, telephone 202 863-2893, facsimile 202 863-2898, or via e-mail qualexint@aol.com.

The Commission, at the request of Holly Springs Radio, allots Channel 243A at Holly Springs, Mississippi, as the community's fourth local aural transmission service. See 66 FR 47433 September 12, 2001). Channel 243A can be allotted at Holly Springs in compliance with the Commission's minimum distance separation requirements with a site restriction of 12.6 kilometers (7.9 miles) southwest of Holly Springs. The coordinates for Channel 243A at Holly Springs are 34-41-32 North Latitude and 89-32-33 West Longitude.

The Commission, at the request of McBain Broadcasting Company, allots Channel 300A at McBain, Michigan, as the community's first local aural transmission service. See 66 FR 47433 (September 12, 2001). Channel 300A can be allotted to McBain in compliance with the Commission's minimum distance separation requirements with a site restriction of 9.1 kilometers (5.6 miles) east of McBain. The coordinates for Channel 300A at McBain are 44-12-09 North Latitude and 85-06-02 West Longitude. Since McBain is located within 320 kilometers of the U.S.-Canadian border, concurrence of the Canadian Government in this allotment has been requested. Notification in this regard has not been received. Accordingly, any construction permit that is granted prior to the receipt of formal concurrence of the Candian government will include the following condition: “Operation with the facilities specified herein is subject to modification, suspension, or termination without right to hearing, if specifically objected to by Industry Canada. This condition will be removed once formal approval for the allotment is received from Industry Canada.”

List of Subjects in 47 CFR Part 73

Radio broadcasting.

Part 73 of Title 47 of the Code of Federal Regulations is amended as follows:

PART 73—RADIO BROADCAST SERVICES

1. The authority citation for Part 73 continues to read as follows:

Authority: 47 U.S.C. §§ 154, 303, 334, 336.

§ 73.202 [Amended]

2. Section 73.202(b), the Table of FM Allotments under Mississippi, is amended by adding Channel 243A at Holly Springs.

3. Section 73.202(b), the Table of Allotments under Michigan, is amended by adding McBain, Channel 300A.

Federal Communications Commission.
John A. Karousos,
Chief, Allocations Branch, Policy and Rules Division, Mass Media Bureau.

[FR Doc. 02-3725 Filed 2-15-02; 8:45 am]

BILLING CODE 6712-01-P